DEPARTMENT OF COMMERCE

Minority Business Development Agency

Agency Information Collection Activities; Submission to the Office of Management and Budget (OMB) for Review and Approval; Comment Request; National Minority Business Awards

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 22, 2021 during a 60-day comment period. This notice allows for an additional 30 days for public comments.

Agency: Minority Business Development Agency.

Title: National Minority Business Awards.

OMB Control Number: 0640-0025.

Form Number(s): None.

Type of Request: Revision of information collection.

Number of Respondents: 250.

Average Hours per Response: 1 hour.

Burden Hours: 250.

Needs and Uses: The information collected will be used to determine which minority business enterprises should receive honorary awards during the annual MED Week event. Use of the nomination form standardizes and limits the information collected and burden hours of the nomination process.

Affected Public: Businesses or other for-profit organizations, not-for-profit institutions, State, local or tribal government and Federal government.

Frequency: Annual.

Respondent's Obligation: Voluntary.

Legal Authority: This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0640-0025.

Sheleen Dumas,
Department PRA Clearance Officer, Office of the Chief Information Officer, Commerce Department.

[FR Doc. 2021-10702 Filed 5-20-21; 8:45 am]

BILLING CODE 3510-21-P